DEPARTMENT OF HEALTH AND HUMAN SERVICES

Health Resources and Services Administration

Statement of Organization, Functions and Delegations of Authority

This notice amends Part R of the Statement of Organization, Functions and Delegations of Authority of the Department of Health and Human Services (HHS), Health Resources and Services Administration (HRSA) (60 FR 56605, as amended November 6, 1995; as last amended at 77 FR 65694-65698 dated October 30, 2012).

This notice reflects organizational changes to the Health Resources and Services Administration. This notice updates the functional statements for the Office of Management (RB4) and Office of Information Technology (RB5). Specifically, this notice: (1) Transfers the records management function from the Office of Management (RB4) to the Office of Information Technology (RB5); (2) updates the functional statement for the Office of Management (RB4) and the Office of the Director and Chief Information Officer, Office of Information Technology; and (3) establishes the Division of Information Technology (IT) Security and Records Management (RBR) within the Office of Information Technology (RB5).

Chapter RB4—Office of Management

Section RB4-20, Functions

(1) Delete the functional statement for the Office of Management (RB4) and replace in its entirety.

Office of Management (RB4)

Provides HRSA-wide leadership, program direction, and coordination of all phases of administrative management. Specifically, the Office of Management: (1) Provides management expertise, staff advice, and support to the Administrator in program and policy formulation and execution; (2) provides administrative management services including human resources, property management, space planning, safety, physical security, and general administrative services; (3) conducts HRSA-wide workforce analysis studies and surveys; (4) plans, directs, and coordinates HRSA's activities in the areas of human resources management, including labor relations, personnel security, and performance; (5) coordinates the development of administrative policies and regulations; (6) oversees the development of annual operating objectives and coordinates HRSA work planning and appraisals; (7) directs and coordinates HRSA's organizations, functions, and delegations of authority programs; (8) administers the Agency's Executive Secretariat and committee management functions; (9) provides staff support to the Agency Chief Travel Official; (10) provides staff support to the Deputy Ethics Counselor; and (11) directs, coordinates, and conducts workforce development activities for HRSA.

Chapter RB5—Office of Information Technology

Section RB5-10, Organization

Delete in its entirety and replace with the following:

The Office of Information Technology (RB5) is headed by the Director and Chief Information Officer within the Office of Operations, Health Resources and Services Administration, who reports directly to the Chief Operating Officer. The Office of Information Technology includes the following components:

(1) Office of the Director and Chief Information Officer (RB5);

(2) Division of Capital Planning, Architecture and Project Management (RB52);

(3) Division of Data and Information Services (RB55);

(4) Division of Enterprise Solutions and Applications Management (RB56);

(5) Division of IT Management Support Services (RB57);

(6) Division of IT Operational Support Services (RB58);

(7) Division of Web Support and Collaboration Services (RB59); and

(8) Division of IT Security and Records Management (RBR).

Section RB5-20, Functions

(1) Delete the functional statement for the Office of the Director and Chief Information Officer (RB5) and replace in its entirety; and (2) establish the functional statement for the Division of IT Security and Records Management (RBR).

Office of the Director and Chief Information Officer (RB5)

The Chief Information Officer is responsible for the organization, management, and administrative functions necessary to carry out the responsibilities of the Chief Information Officer including: (1) Provides organizational development, investment control, budget formulation and execution, policy development, strategic and tactical planning, and performance monitoring; (2) provides leadership in the development, review, and implementation of policies and procedures to promote improved information technology management capabilities and best practices throughout HRSA; and (3) coordinates IT workforce issues and works closely with the Office of Management on IT recruitment and training issues.

Division of IT Security and Records Management (RBR)

The Chief Information Security Officer, reporting to the Chief Information Officer, provides leadership for, and collaborates with, agency staff to oversee the implementation of security and privacy policy in the management of their IT systems, and plans all activities associated with Federal Information Security Management Act or other agency security and privacy initiatives including: (1) Implements, coordinates, and administers security and privacy programs to protect the information resources of HRSA in compliance with legislation, Executive Orders, directives of the Office of Management and Budget, or other mandated requirements, e.g., Presidential Decision Directive 63, Office of Management and Budget Circular A-130, and the Privacy Act; (2) executes agency's Risk Management Program and evaluates and assists with the implementation of safeguards to protect major information systems and IT infrastructure; (3) manages the development, implementation, and evaluation of the HRSA information technology security and privacy training program to meet requirements mandated by Office of Management and Budget Circular A-130, the Computer Security Act, and the Privacy Act; (4) implements, coordinates, and administers the records management program for HRSA; and (5) is responsible for establishing agency records management policy, HRSA records schedules, and training, in compliance with National Archives and Records Administration standards.

Section RB5-30, Delegations of Authority

All delegations of authority and re-delegations of authority made to HRSA officials that were in effect immediately prior to this reorganization, and that are consistent with this reorganization, shall continue in effect pending further re-delegation.

This reorganization is effective upon date of signature.

Dated: December 26, 2012.
Mary K. Wakefield,
Administrator.

[FR Doc. 2013-00032 Filed 1-4-13; 8:45 am]

BILLING CODE 4165-15-P